DEPARTMENT OF HEALTH AND HUMAN SERVICES

Administration for Children and Families

Administration on Children, Youth and Families

AGENCY: Administration on Children, Youth and Families, Administration for Children and Families, HHS.

ACTION: Noncompetitive Successor Grantee Award.

CFDA#: 93.616.

Legislative Authority: Public Law (Pub. L.) 107-133, Promoting Safe and Stable Families Amendments of 2001, Subtitle B.

Amount of Award: $82,000 for one year.

Project Period: 7/30/2006-7/29/2007.

Justification for the Exception to Competition: In a letter dated June 19, 2006, Mr. Neil J. Hufnagel, Board President/Interim Director of Big Brothers Big Sisters of Clinton and Ionia Counties voluntarily relinquished the agency's grant funds to ACF as a result of their merger with Big Brothers Big Sisters of Michigan Capital Region. To ensure that grant monies are obligated and that services provided by the grant funds may continue, Big Brothers of Michigan Capital Region, submitted an application dated July 31, 2006 to become the permanent successor grantee for the final budget and project periods of Grant No. 90CVO172.

Big Brothers Big Sisters of Clinton and Ionia Counties was responsible for assisting children in Clinton and Ionia Counties whose parents are incarcerated to alleviate risk factors and to improve their quality of life by providing them with specially-trained adult mentors who can provide supportive relationships, guidance and encouragement. As Big Brothers Big Sisters of Michigan Capital Region is proposing to continue services to the same community with the same staff as previously done by Big Brothers Big Sisters of Clinton and Iona Counties, the Family and Youth Services Bureau (FYSB) is requesting that Big Brothers Big Sisters of Michigan Capital Region be granted a deviation to be funded as the permanent successor grantee without competition for the remaining twelve months of the project period.

FOR FURTHER INFORMATION CONTACT: Curtis Porter, Director, Youth Development Division, Family and Youth Services Bureau, Administration for Children, Youth and Families, Administration for Children and Families, Portals Building, Suite 800, 1250 Maryland Avenue, SW., Washington, DC 20024. Telephone: 202-205-8102

Dated: September 8, 2006.
Joan E. Ohl,
Commissioner, Administration on Children, Youth and Families.

[FR Doc. E6-15324 Filed 9-14-06; 8:45 am]

BILLING CODE 4184-01-P